DEPARTMENT OF ENERGY

Federal Energy Regulatory Commission

Combined Notice of Filings

Take notice that the Commission has received the following Natural Gas & Oil Pipeline Rate and Refund Report filings:

Filings in Existing Proceedings

Docket Numbers: PR23-48-001.

Applicants: Spire Storage Salt Plains LLC.

Description: Amendment Filing: Salt Plains revised SOC June 2023 to be effective 4/1/2023.

Filed Date: 6/22/23.

Accession Number: 20230622-5066.

Comment Date: 5 p.m. ET 7/13/23.

Protest Date: 5 p.m. ET 8/21/23

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 23, 2023.
Debbie-Anne A. Reese,
Deputy Secretary.

[FR Doc. 2023-13837 Filed 6-28-23; 8:45 am]

BILLING CODE 6717-01-P